COMMISSION ON CIVIL RIGHTS

Agenda and Notice of Public Meeting of the Maine Advisory Committee

Notice is hereby given, pursuant to the provisions of the rules and regulations of the U.S. Commission on Civil Rights (Commission), and the Federal Advisory Committee Act (FACA), that orientation and planning meetings of the Maine Advisory Committee to the Commission will convene at 10 a.m. on Tuesday, January 4, 2011, at the Avesta Conference Room, Immigrant Legal Advocacy Project, 309 Cumberland Avenue, Suite 201, Portland, ME 04112. The purpose of the orientation meeting is to provide ethics training and to describe the rules of operation for SAC activities to the Committee members. The purpose of the planning meeting is to review recent Commission and regional activities, discuss current civil rights issues in the State and to plan future activities.

Members of the public are entitled to submit written comments; the comments must be received in the regional office by February 4, 2011. The address is the Eastern Regional Office, 624 9th Street, NW., Suite 740, Washington, DC 20425. Persons wishing to e-mail their comments, or who desire additional information should contact the Eastern Regional Office at 202-376-7533 or by e-mail to: ero@usccr.gov.

Hearing-impaired persons who will attend the meetings and require the services of a sign language interpreter should contact the Regional Office at least ten (10) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the provisions of the rules and regulations of the Commission and FACA.

Peter Minarik,
Acting Chief, Regional Programs Coordination Unit.

[FR Doc. 2010-33177 Filed 1-3-11; 8:45 am]

BILLING CODE 6335-01-P